DEPARTMENT OF THE TREASURY

Submission for OMB Review; Comment Request

September 17, 2012.

The Department of the Treasury will submit the following information collection request to the Office of Management and Budget (OMB) for review and clearance in accordance with the Paperwork Reduction Act of 1995, Public Law 104-13, on or after the date of publication of this notice.

DATES: Comments should be received on or before October 22, 2012 to be assured of consideration.

ADDRESSES: Send comments regarding the burden estimate, or any other aspect of the information collection, including suggestion for reducing the burden, to the (1) Office of Information and Regulatory Affairs, Office of Management and Budget, Attention: Desk Officer for Treasury, New Executive Office Building, Room 10235, Washington, DC 20503, or email at OIRA_Submission@OMB.EOP.GOV and to the (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Alcohol and Tobacco Tax and Trade Bureau (TTB)

OMB Number: 1513-0131.

Type of Review: Revision of a currently approved collection.

Title: Certificate of Taxpaid Alcohol.

Form: TTB F 5100.4.

Abstract: TTB F 5100.4 consolidates taxes paid on distilled spirits used in the manufacture of non-beverage products for exportation. The form is completed by TTB industry members to receive back $1 for each proof gallon of non-beverage products exported. The form is certified by TTB as proof that the taxes have been paid and not previously received back. The completed form is sent to the Director of Customs and Border Patrol who processes it and returns the $1 per proof gallon.

Affected Public: Private Sector: Businesses or other for-profits.

Estimated Total Burden Hours: 500.

Robert Dahl,
Treasury PRA Clearance Officer.

[FR Doc. 2012-23262 Filed 9-19-12; 8:45 am]

BILLING CODE 4810-31-P